DEPARTMENT OF LABOR

Occupational Safety and Health Administration

[Docket No. OSHA-2016-0001]

National Advisory Committee on Occupational Safety and Health

AGENCY: Occupational Safety and Health Administration (OSHA), Labor.

ACTION: Announcement of special meeting.

SUMMARY: The National Advisory Committee on Occupational Safety and Health (NACOSH) will hold a special meeting on March 4, 2016, in Washington, DC, to consider and make recommendations on OSHA's draft Safety and Health Program Management Guidelines.

DATES: NACOSH will meet from 2 to 5 p.m., Friday, March 4, 2016.

Comments, requests to speak, speaker presentations, requests for special accommodations and requests to attend the meeting by teleconference: You must submit (postmark, send, transmit) comments, requests to address NACOSH, speaker presentations, requests for special accommodations for the NACOSH meeting and requests to attend the meeting by teleconference by Wednesday, February 24, 2016.

ADDRESSES: NACOSH will meet in Room N-5437A, Conference Rooms A-B, U.S. Department of Labor, 200 Constitution Avenue NW., Washington, DC 20210.

Submission of comments, requests to speak and speaker presentations: You may submit comments and requests to speak at the NACOSH meeting, identified by the docket number for this Federal Register notice (Docket No. OSHA-2016-0001), by one of the following methods:

Electronically: You may submit materials, including attachments, electronically at http://www.regulations.gov, which is the Federal eRulemaking Portal. Follow the online instructions for making submissions.

Facsimile: If your submission, including attachments, does not exceed 10 pages, you may fax it to the OSHA Docket Office at (202) 693-1648.

Regular mail, express mail, hand delivery, or messenger/courier service (hard copy): You may submit your materials to the OSHA Docket Office, Docket No. OSHA-2016-0001, Room N-2625, U.S. Department of Labor, 200 Constitution Avenue NW., Washington, DC 20210; telephone (202) 693-2350 (TTY (887) 889-5627). OSHA's Docket Office accepts deliveries (hand deliveries, express mail, and messenger/courier service) during normal business hours, 8:15 a.m. to 4:45 p.m. e.t., weekdays.

Requests for special accommodations and requests to attend the meeting by teleconference: Please submit requests for special accommodations to attend the NACOSH meeting and requests to attend the meeting by teleconference, by email, telephone, or hard copy to Ms. Gretta Jameson, OSHA Office of Communications, Room N-3647, U.S. Department of Labor, 200 Constitution Avenue NW., Washington, DC 20210; telephone (202) 693-1999 (TTY (887) 889-5627); email jameson.grettah@dol.gov.

Instructions: Your submissions must include the Agency name and the docket number for this Federal Register notice (Docket No. OSHA-2016-0001). Due to security-related procedures, submissions by regular mail may experience significant delays. Please contact the OSHA Docket Office for information about security procedures for making submissions by hand delivery, express delivery, or messenger/courier service. For additional information about submissions, see the SUPPLEMENTARY INFORMATION section of this notice.

OSHA will post in the NACOSH docket, without change, any comments, requests to speak, and speaker presentations, including any personal information that you provide. Therefore, OSHA cautions interested parties about submitting personal information such as Social Security numbers and birthdates.

FOR FURTHER INFORMATION CONTACT:

For press inquiries: Mr. Frank Meilinger, Director, OSHA Office of Communications, Room N-3647, U.S. Department of Labor, 200 Constitution Avenue NW., Washington, DC 20210; telephone (202) 693-1999 (TTY (877) 889-5627); email meilinger.francis2@dol.gov.

For general information: Ms. Michelle Walker, Director, OSHA Technical Data Center, Directorate of Technical Support and Emergency Management, Room N-2625, U.S. Department of Labor,, 200 Constitution Avenue NW., Washington, DC 20210; telephone (202) 693-2350 (TTY (877) 889-5627); email walker.michelle@dol.gov.

SUPPLEMENTARY INFORMATION: NACOSH will hold a special meeting on Friday, March 4, 2016, in Washington, DC. The purpose of this special meeting is to allow NACOSH to consider and make recommendations on OSHA's draft Safety and Health Program Management Guidelines. Some NACOSH members may attend by teleconference. NACOSH meetings are open to the public.

NACOSH was established by Section 7(a) of the Occupational Safety and Health Act of 1970 (OSH Act) (29 U.S.C. 651, 656) to advise, consult with and make recommendations to the Secretary of Labor and the Secretary of Health and Human Services on matters relating to the administration of the OSH Act. NACOSH is a continuing advisory committee of indefinite duration.

NACOSH operates in accordance with the Federal Advisory Committee Act (FACA) (5 U.S.C. App. 2), its implementing regulations (41 CFR part 102-3), and OSHA's regulations on NACOSH (29 CFR part 1912a).

OSHA transcribes and prepares detailed minutes of NACOSH meetings. OSHA posts the transcripts and minutes in the public docket along with written comments, speaker presentations, and other materials submitted to NACOSH or presented at NACOSH meetings.

Public Participation, Submissions and Access to Public Record

All NACOSH meetings are open to the public. Individuals attending NACOSH meetings at the U.S. Department of Labor must enter the building at the Visitors' Entrance at 3rd and C Streets NW., and pass through building security. Persons attending the meeting must have valid government-issued photo identification (e.g., driver's license) to enter the building. For additional information about attending the NACOSH meeting (in person or by teleconference), please contact Ms. Jameson (see ADDRESSES section).

Individuals requesting special accommodations to attend the NACOSH meeting and requesting to attend the meeting by teleconference should contact Ms. Jameson.

Submission of comments: You may submit comments using one of the methods listed in the ADDRESSES section. Your submission must include the Agency name and docket number for this Federal Register notice (Docket No. OSHA-2016-0001). OSHA will provide copies of any submissions to the NACOSH members.

Because of security-related procedures, submissions by regular mail may experience significant delays. For information about security procedures for submitting materials by hand delivery, express mail, and messenger/courier service, please contact the OSHA Docket Office.

Requests to speak and speaker presentations: If you want to address NACOSH at the meeting you must submit a request to speak, as well as any written or electronic presentation, by February 24, 2016, using one of the methods listed in the ADDRESSES section. Your request must state:

• The amount of time requested to speak;

• The interest you represent (e.g., business, organization, affiliation), if any; and

• A brief outline of the presentation.

PowerPoint presentations and other electronic materials must be compatible with PowerPoint 2010 and other Microsoft Office 2010 formats. The NACOSH Chair may grant requests to address NACOSH as time and circumstances permit.

Public docket of NACOSH meetings: OSHA places comments, requests to speak, and speaker presentations, including any personal information you provide, in the NACOSH docket, without change. Those documents also may be available online at http://www.regulations.gov. Therefore, OSHA cautions you about submitting certain personal information such as Social Security numbers and birthdates.

OSHA also places in the NACOSH docket meeting transcripts, meeting minutes, documents presented at the NACOSH meeting, and other documents pertaining to the NACOSH meetings. These documents may be available online at http://www.regulations.gov.

Access to the public record of NACOSH meetings: To read or download documents in the NACOSH docket, go to Docket No. OSHA-2016-0001 at http://www.regulations.gov. The index for that Web page lists all of the documents in the docket; however, some documents (e.g., copyrighted materials) are not publicly available through that Web page. All documents in the NACOSH docket, including materials not available through http://www.regulations.gov, are available in the OSHA Docket Office. Please contact the OSHA Docket Office for assistance in making submissions to, or obtaining materials from, the NACOSH docket.

Electronic copies of this Federal Register notice are available at http://www.regulations.gov. This notice, as well as news releases and other relevant information, also are available on OSHA's Web page at http://www.osha.gov.

Authority and Signature

David Michaels, Ph.D., MPH, Assistant Secretary of Labor for Occupational Safety and Health, directed the preparation of this notice under the authority granted by 29 U.S.C. 656; 5 U.S.C. App. 2; 29 CFR part 1912a; 41 CFR part 102-3; and Secretary of Labor's Order No. 1-2012 (77 FR 3912 (1/25/2012)).

Signed at Washington, DC, on February 11, 2016.
David Michaels,
Assistant Secretary of Labor for Occupational Safety and Health.

[FR Doc. 2016-03295 Filed 2-16-16; 8:45 am]

BILLING CODE 4510-26-P